DEPARTMENT OF STATE

[Delegation of Authority 390-1]

Re-Delegation of Certain Authorities and Functions Under the International Organizations Immunities Act

By virtue of the authority vested in the Secretary of State by the International Organizations Immunities Act (the Act), and delegated on November 19, 2015, and to the extent consistent with law, I hereby delegate to the following officers the authorities and functions contained in Section 8 of the Act, as amended (22 U.S.C. 288e):

(1) The Director and Deputy Director of the Office of Foreign Missions;

(2) the Chief of Protocol and Assistant Chief of Protocol for Diplomatic Affairs; and

(3) the Deputy Permanent Representative and Minister Counselor for Host Country Affairs, of the U.S. Mission to the United Nations, New York.

Notwithstanding any provisions herein, the Secretary, Deputy Secretary, the Deputy Secretary for Management and Resources, or the Under Secretary for Management may at any time exercise the functions herein delegated. Any act, executive order, regulation, manual or procedure subject to, affected, or incorporated by, this delegation shall be deemed to be such act, executive order, regulation, manual or procedure as amended from time to time.

This document shall be published in the Federal Register.

Dated: November 19, 2015.
Patrick F. Kennedy,
Under Secretary of State for Management.

[FR Doc. 2015-30548 Filed 12-2-15; 8:45 am]

BILLING CODE 4710-08-P